DEPARTMENT OF LABOR

Occupational Safety and Health Administration

[Docket No. OSHA-2016-0001]

National Advisory Committee on Occupational Safety and Health (NACOSH)

AGENCY: Occupational Safety and Health Administration (OSHA), Labor.

ACTION: Announcement of a NACOSH meeting.

SUMMARY: NACOSH will meet December 14, 2016, in Washington, DC. In conjunction with that meeting, the NACOSH Occupational Safety and Health (OSH) Professionals Pipeline Work Group will meet December 13, 2016.

DATES:

NACOSH meeting: NACOSH will meet from 9 a.m. to 5 p.m., Wednesday, December 14, 2016.

NACOSH Work Group meeting: The NACOSH OSH Professionals Pipeline Work Group will meet from 9 a.m. to 5 p.m., Tuesday, December 13, 2016.

Comments, requests to speak, speaker presentations, and requests for special accommodations: You must submit (postmark, send, transmit) comments, requests to address NACOSH, speaker presentations, and requests for special accommodations for the NACOSH and NACOSH Work Group meetings by December 7, 2016.

ADDRESSES: NACOSH and NACOSH Work Group meetings: NACOSH and the NACOSH Work Group will meet in Room N-4437, Conference Rooms A-D, U.S. Department of Labor, 200 Constitution Avenue NW., Washington, DC 20210.

Submission of comments, requests to speak and speaker presentations: You must submit comments and request to speak at the NACOSH meeting, identified by the docket number for this Federal Register notice (Docket No. OSHA-2016-0001), by one of the following methods:

Electronically: You may submit materials, including attachments, electronically at http://www.regulations.gov, the Federal eRulemaking Portal. Follow the online instructions for making submissions.

Facsimile: If your submission, including attachments, does not exceed 10 pages, you may fax it to the OSHA Docket Office at (202) 693-1648.

Regular mail, express mail, hand delivery, or messenger/courier service (hard copy): You may submit your materials to the OSHA Docket Office, Docket No. OSHA-2016-0001, Room N-3653, U.S. Department of Labor, 200 Constitution Avenue NW., Washington, DC 20210; telephone (202) 693-2350 (TTY (887) 889-5627). OSHA's Docket Office accepts deliveries (hand deliveries, express mail, and messenger/courier service) from 10 a.m. to 3 p.m. e.t., weekdays.

Requests for special accommodations: Please submit requests for special accommodations to attend the NACOSH and NACOSH Work Group meetings by email, telephone, or hard copy to Ms. Michelle Walker, Director, OSHA Technical Data Center, Directorate of Technical Support and Emergency Management, U.S. Department of Labor, Room N-3653, 200 Constitution Avenue NW., Washington, DC 20210; telephone (202) 693-2350 (TTY (887) 889-5627); email walker.michelle@dol.gov.

Instructions: Your submissions must include the Agency name and the docket number for this Federal Register notice (Docket No. OSHA-2016-0001). Due to security-related procedures, receipt of submissions by regular mail may experience significant delays. Please contact the OSHA Docket Office for information about security procedures for making submissions by hand delivery, express delivery, or messenger/courier service. For additional information about submissions, see the SUPPLEMENTARY INFORMATION section of this notice.

OSHA will post in the NACOSH docket, without change, any comments, requests to speak, and speaker presentations, including any personal information that you provide. Therefore, OSHA cautions interested parties about submitting personal information such as Social Security numbers and birthdates.

FOR FURTHER INFORMATION CONTACT:

For press inquiries: Mr. Frank Meilinger, Director, OSHA Office of Communications, U.S. Department of Labor, Room N-3647, 200 Constitution Avenue NW., Washington, DC 20210; telephone (202) 693-1999 (TTY (877) 889-5627); email meilinger.francis2@dol.gov.

For general information: Ms. Michelle Walker, Director, OSHA Technical Data Center, Directorate of Technical Support and Emergency Management, U.S. Department of Labor, Room N-3653, 200 Constitution Avenue NW., Washington, DC 20210; telephone (202) 693-2350 (TTY (877) 889-5627); email walker.michelle@dol.gov.

SUPPLEMENTARY INFORMATION: NACOSH meeting: NACOSH will meet Wednesday, December 14, 2016, in Washington, DC. NACOSH meetings are open to the public. Some NACOSH members may attend the meeting by teleconference.

The Occupational Safety and Health Act of 1970 (OSH Act) (29 U.S.C. 651, 656) established NACOSH to advise, consult with and make recommendations to the Secretary of Labor and the Secretary of Health and Human Services on matters relating to the administration of the OSH Act. NACOSH is a continuing advisory committee of indefinite duration.

NACOSH operates in accordance with the Federal Advisory Committee Act (FACA) (5 U.S.C. App. 2), its implementing regulations (41 CFR part 102-3), and OSHA's regulations on NACOSH (29 CFR part 1912a).

The tentative agenda for the NACOSH meeting includes:

• An update from the Assistant Secretary of Labor for Occupational Safety and Health on key OSHA initiatives;

• Remarks from the Director of the National Institute for Occupational Safety and Health;

• Consideration of draft regulatory text that the NACOSH Emergency Response and Preparedness Subcommittee developed. (To read or download subcommittee documents in the NACOSH docket, go to Docket No. OSHA-2015-0019 at http://www.regulations.gov); and

• An update on the NACOSH OSH Professionals Pipeline Work Group meeting.

OSHA transcribes and prepares detailed minutes of NACOSH meetings. OSHA posts transcripts and minutes in the public docket along with written comments, speaker presentations, and other materials submitted to NACOSH or presented at NACOSH meetings.

NACOSH Work Group meeting: The NACOSH OSH Professionals Pipeline Work Group will meet Tuesday, December 13, 2016. The meeting is open to the public. The purpose of the meeting is to continue discussions on promoting careers in occupational safety and health and growing the next generation of OSH professionals. The work group will also hear from the National Institute of Occupational Safety and Health about their related programs and initiatives.

Public Participation, Submissions and Access to Public Record

NACOSH and NACOSH Work Group meetings: All NACOSH and NACOSH Work Group meetings are open to the public. Attendees must enter the Department of Labor Building at the 3rd and C Street Visitors' entrance and have valid government-issued photo identification (e.g., driver's license) for entry. For additional information about building security measures for attending the NACOSH and NACOSH Work Group meetings, please contact Ms. Walker (see ADDRESSES section).

Individuals requesting special accommodations to attend the NACOSH and NACOSH Work Group meetings should contact Ms. Walker.

Submission of comments: You must submit comments using one of the methods listed in the ADDRESSES section. Your submission must include the Agency name and docket number for this Federal Register notice (Docket No. OSHA-2016-0001). OSHA will provide copies of submissions to the NACOSH members.

Because of security-related procedures, receipt of submissions by regular mail may experience significant delays. For information about security procedures for submitting materials by hand delivery, express mail, and messenger/courier service, please contact the OSHA Docket Office.

Requests to speak and speaker presentations: If you want to address NACOSH at the meeting you must submit a request to speak, as well as any written or electronic presentation, by December 7, 2016, using one of the methods listed in the ADDRESSES section. Your request must state:

• The amount of time requested to speak;

• The interest you represent (e.g., business, organization, affiliation), if any; and

• A brief outline of the presentation.

PowerPoint presentations and other electronic materials must be compatible with PowerPoint 2010 and other Microsoft Office 2010 formats. The NACOSH Chair may grant requests to address NACOSH as time and circumstances permit.

Public docket of NACOSH meetings: OSHA places comments, requests to speak, and speaker presentations, including any personal information you provide, in the NACOSH docket, without change. Those documents also may be available online at http://www.regulations.gov. Therefore, OSHA cautions you about submitting certain personal information such as Social Security numbers and birthdates.

OSHA also places in the NACOSH docket meeting transcripts, meeting minutes, documents presented at the NACOSH meeting, and other documents pertaining to the NACOSH and NACOSH Subcommittee/Work Group meetings. These documents may be available online at http://www.regulations.gov.

Access to the public record of NACOSH meetings: To read or download documents in the NACOSH docket, go to Docket No. OSHA-2016-0001 at http://www.regulations.gov. The index for that Web page lists all of the documents in the docket; however, some documents (e.g., copyrighted materials) are not publicly available through that Web page. All documents in the NACOSH docket, including materials not available through http://www.regulations.gov, are available in the OSHA Docket Office. Please contact the OSHA Docket Office for assistance in making submissions to, or obtaining materials from, the NACOSH docket.

Electronic copies of this Federal Register notice are available at http://www.regulations.gov. This notice, as well as news releases and other relevant information, also are available on OSHA's Web page at http://www.osha.gov.

Authority and Signature

David Michaels, Ph.D., MPH, Assistant Secretary of Labor for Occupational Safety and Health, directed the preparation of this notice under the authority granted by 5 U.S.C. App. 2; 29 U.S.C. 656; 29 CFR part 1912a; 41 CFR part 102-3; and Secretary of Labor's Order No. 1-2012 (77 FR 3912 (1/25/2012)).

Signed at Washington, DC, on November 22, 2016.
David Michaels,
Assistant Secretary of Labor for Occupational Safety and Health.

[FR Doc. 2016-28581 Filed 11-28-16; 8:45 am]

BILLING CODE 4510-26-P